NUCLEAR REGULATORY COMMISSION

[Docket No. A-96-44]

Corrections to Multi-Agency Radiation Survey and Site Investigation Manual, Revision 1

AGENCY: Nuclear Regulatory Commission.

ACTION: List of corrections to Multi-Agency Radiation Survey and Site Investigation Manual, revision 1.

SUMMARY: This document presents corrections made to the Multi-Agency Radiation Survey and Site Investigation Manual (MARSSIM), Revision 1, which was published on October 18, 2000 (65 FR 62531). Revision 1 updated the December 1997 MARSSIM to reflect resolution of the comments received and to make editorial corrections.

EFFECTIVE DATE: June 29, 2001.

ADDRESSES: Copies of the MARSSIM, Revision 1, may be purchased by requests in writing to: National Technical Information Service, 5285 Port Royal Road, Springfield, VA 22161 or phone 1-800-553-6847 or (703) 605-6000 8 a.m.—6 p.m.; EST, Mon-Fri The NRC document number is NUREG-1575, Rev. 1; the EPA document number is EPA 402-R-97-016, Rev. 1, and the DOE number is DOE/EH-0624, Rev. 1. The manual, the June 2001 corrected pages, and a summary of comments received are also available through the Internet at: http://www.epa.gov/radiation/marssim.

FOR FURTHER INFORMATION CONTACT: Robert A. Meck, Telephone: (301) 415-6205, U.S. Nuclear Regulatory Commission, MS T-9F31, Washington, DC 20555-0001, e-mail: ram2@nrc.gov; Harold Peterson, Telephone: (202) 586-9640, U.S. Department of Energy (EH-412), 1000 Independence Avenue, SW., Washington, DC 20585, e-mail: peterson.harold@eh.doe.gov; or Mark Doehnert; Telephone: (202) 564-9386, U.S. Environmental Protection Agency, Mail Stop 6608J, 1200 Pennsylvania Avenue, NW., Washington, DC 20460, e-mail: doehnert.mark@epa.gov.

SUPPLEMENTARY INFORMATION: The MARSSIM provides information on planning, conducting, evaluating, and documenting environmental radiological surveys of surface soils and building surfaces for demonstrating compliance with regulations. The following corrections, dated June 2001, were made to Revision 1 of the MARSSIM by the multi-agency MARSSIM workgroup. The June 2001 corrected pages are also available on the Internet at http://www.epa.gov/radiation/marssim.

1. On page v of the Table of Contents, the August 2000 date was removed from the header of the Errata and Addenda page to facilitate incorporation of future modifications. Pages xi, xii, and xv were corrected to correspond to the correct titles for Appendix C, Section .11 and Table H-3 respectively. Page xxviii was also updated to include these June 2001 corrections to the list of Errata and Addenda.

2. On page xxiii, the Abbreviations page, the abbreviation DARA (Department of the Army Radioactive Material Authorization) was updated to ARA (Army Radiation Authorization). Also, on page C-19, the list of Army Regulations was updated by deleting AR 40-14 and AR 385-11 and adding AR 11-9 (The Army Radiation Safety Program).

3. On page Roadmap-8, the first bullet included an equation without an equal sign. The equation was corrected to include the equal sign.

4. On page 4-24, the second line of the second paragraph under Section 4.8.3.2 was missing a modifier. The word “that” was added to clarify the meaning of the sentence.

5. On page 5-12, the second line of the second paragraph under Section 5.3.3.3 included a typographical error. A space was added between “samples” and “of.”

6. On page 6-16, the second line of the last paragraph under Section 6.5.1.3 was edited for clarification. The word “fluence” was added following “total particle.”

7. On page 6-30, the Greek letter epsilon character in equations 6-3 and 6-4 printed incorrectly. This misprint was corrected.

8. On page 6-37, the example data were modified to reflect the August 2000 Errata and Addenda correction of the conversion factor for converting Bq/m² to dpm/100 cm².

9. On page 8-19, the example data were modified to reflect the August 2000 Errata and Addenda correction of the conversion factor for converting Bq/m² to dpm/100 cm².

10. On page 8-23, text was added to the first and third paragraphs to clarify the definition and use of the Greek letter delta (lower case delta) in equation 8-2 on that page.

11. On page 8-23, the Greek letter delta (lower case delta) character in equation 8-2 printed incorrectly. The misprint was corrected.

Dated in Rockville, Maryland, this 25th day of June 2001.
For the U.S. Nuclear Regulatory Commission.
Thomas L. King,
Director, Division of Risk Analysis and Applications, Office of Nuclear Regulatory Research.

[FR Doc. 01-16392 Filed 6-28-01; 8:45 am]

BILLING CODE 7590-01-P